DEPARTMENT OF AGRICULTURE

Forest Service

Revision of Land Management Plan for the George Washington National Forest, Virginia and West Virginia

AGENCY: Forest Service, USDA.

ACTION: Notice of intent to prepare an environmental impact statement and revised land management plan using the provisions of the 1982 National Forest System land and resource management planning regulations for the George Washington National Forest.

Affected Area: Alleghany, Amherst, Augusta, Bath, Botetourt, Frederick, Highland, Nelson, Page, Rockbridge, Rockingham, Shenandoah and Warren counties, Virginia and in Hampshire, Hardy, Monroe and Pendleton counties, West Virginia.

SUMMARY: As directed by the National Forest Management Act, the USDA Forest Service is preparing the George Washington National Forest (GWNF) revised land and resource management plan (Forest Plan) and an environmental impact statement (EIS) for this revised plan. This notice briefly describes the purpose and need for change, some proposed actions in response to the need for change, preliminary issues, and preliminary alternatives for the plan revision based on what has been identified from internal and external discussions since the revision of the Forest Plan began in 2007. It also provides information concerning public participation, estimated dates for filing the EIS, the names and addresses of the responsible agency official, and the individuals who can provide additional information. Finally, this notice briefly describes the applicable planning rule and how work done on the plan revision under the 2008 planning rule will be used or modified for completing this plan revision.

The revised Forest Plan will supersede the land and resource management plan previously approved by the Regional Forester on January 21, 1993 and as amended nine times from 1993 to 2002. Those amendments include: The availability of oil and gas leasing in Laurel Fork Special Management Area; the designation of Mount Pleasant National Scenic Area; the Biological Opinion for the Indiana bat; and the helicopter application of liming for the St. Mary's River within the St. Mary's Wilderness. The amended Plan will remain in effect until the revision takes effect.

DATES: Comments concerning the scope of this analysis as presented here and on the Internet Web site http://www.fs.fed.us/r8/gwj will be most useful in the development of the draft Forest Plan and draft Environmental Impact Statement if received by May 7, 2010. Public meetings to discuss the need for change, issues for analysis, a range of alternatives and further plan development are planned in March and April 2010 at several locations. The dates, times and locations of these meetings will be posted at the Web site: http://www.fs.fed.us/r8/gwj. The agency expects to release a draft revised Forest Plan and draft EIS for formal comment by December 2010 and a final revised Forest Plan and final EIS by September 2011.

ADDRESSES: Send written comments to: George Washington Plan Revision, George Washington & Jefferson National Forests, 5162 Valleypointe Parkway, Roanoke, Virginia 24019-3050. Electronic comments should include “GW Plan Revision” in the subject line and be sent to: comments-southern-georgewashingtonjefferson@fs.fed.us.

FOR FURTHER INFORMATION CONTACT: Karen Overcash, Planning Team Leader, Ken Landgraf, Planning Staff Officer, or JoBeth Brown, Public Affairs Officer, George Washington & Jefferson National Forests, (540) 265-5100. Information on this revision is also available at the George Washington & Jefferson National Forests revision Web site http://www.fs.fed.us/r8/gwj.

Individuals who use telecommunication devices for the deaf (TDD) may call the Federal Information Relay Service (FIRS) at 1-800-877-8339 between 8 a.m. and 8 p.m., Eastern Time Monday through Friday.

SUPPLEMENTARY INFORMATION:

A. Name and Address of the Responsible Official

The responsible official who will approve the Record of Decision is Elizabeth Agpaoa, Regional Forester, Southern Region, 1720 Peachtree Road, NW., Atlanta, Georgia 30309.

B. Nature of the Decision To Be Made

The George Washington National Forest is preparing an EIS to revise the current Forest Plan. The EIS process is meant to inform the Regional Forester so that she can decide which alternative best meets the diverse needs of the people while protecting the forest's resources, as required by the National Forest Management Act and the Multiple Use Sustained Yield Act. The Revised Forest Plan will establish management direction for the next 10 to 15 years and will address the needs for change described below. Forest Plans typically do not make site-specific decisions but they do establish limitations on what actions may be authorized and what conditions must be met as part of project-level decision-making. The authorization of site-specific activities within a plan area later occurs through project decision-making that must comply with NEPA procedures and must include a determination that the project is consistent with the Forest Plan. The exception to this for the GWNF Forest Plan will be the site-specific designation of those lands administratively available for oil and gas leasing. The environmental analysis for this site-specific decision will be included within the Forest Plan EIS.

A Forest Plan developed under the 1982 planning rule procedures will make the following primary decisions:

1. Establishment of forestwide multiple-use goals and objectives (36 CFR 219.11(b));

2. Establishment of forestwide management requirements (36 CFR 219.13 to 219.27);

3. Establishment of multiple-use prescriptions and associated standards for each management area (36 CFR 219.11(c));

4. Determination of land that is suitable for the production of timber (16 U.S.C. 1604(k) and 36 CFR 219.14);

5. Establishment of the allowable sale quantity for timber within a time frame specified in the plan (36 CFR 219.16);

6. Establishment of monitoring and evaluation requirements (36 CFR 219.11(d));

7. Recommendations concerning roadless areas that Congress could designate as wilderness (36 CFR 219.17); and

8. Where applicable, designation of those lands administratively available for oil and gas leasing (36 CFR 228. 102). The 1993 GWNF Forest Plan contains the designation of those lands administratively available for oil and gas leasing. This designation will be analyzed again in the EIS and addressed in the revised Forest Plan.

C. Background

1. Applicable Planning Rule

Notification of initiation of the plan revision process for the George Washington National Forest was provided in the Federal Register on February 15, 2007 [72 FR 73901]. The plan revision was initiated under the planning procedures contained in the 2005 Forest Service planning rule (36 CFR 219 (2005)) and one series of public meetings was held. On March 30, 2007, the federal district court for the Northern District of California enjoined the Forest Service from implementing the 2005 planning rule and the revision of the GWNF Forest Plan under the 36 CFR 219 (2005) rule was suspended in response to the injunction. On April 21, 2008 the Forest Service adopted a new planning rule that allowed resumption of the revision process if it conformed to the new planning rule (36 CFR 219.14(b)(3)(ii), 2008). Notification of adjustment for resuming the land management plan revision process under the 36 CFR 219 (2008) rule for the GWNF was provided in the Federal Register on June 24, 2008 [73 FR 35632]. A series of five topical public meetings were held between July 2008 and February 2009. On June 30, 2009, the 2008 planning rule was enjoined by the United States District Court for the Northern District of California (Citizens for Better Forestry v. United States Department of Agriculture, No. C 08-1927 CW (N.D. Cal. June 30, 2009)) and the revision of the GWNF Forest Plan was again suspended. The Department has determined that the 2000 planning rule is now back in effect. The 2000 Rule's transition provisions (36 CFR 219.35), amended in 2002 and 2003 and clarified by interpretative rules issued in 2001 and 2004, and reissued on December 18, 2009 [74 FR 67059-67075] allow use of the provisions of the National Forest System land and resource management planning rule in effect prior to the effective date of the 2000 Rule (November 9, 2000), commonly called the 1982 planning rule, to amend or revise plans. The GWNF has elected to use the provisions of the 1982 planning rule, including the requirement to prepare an EIS, to complete its plan revision.

2. Relationship to the Southern Appalachian Assessment and the Revised Land and Resource Management Plan for the Jefferson National Forest

The George Washington and Jefferson National Forests, along with four other national forests, participated in the preparation of the Southern Appalachian Assessment, which culminated in a final summary report and four technical reports (atmospheric, social/cultural/economic, terrestrial, and aquatic) that were published in July, 1996. The Assessment facilitated ecologically based approaches to public lands management in the Southern Appalachian region by collecting and analyzing broad scale biological, physical, social and economic data. It addressed the sustainability of Southern Appalachian Mountain public lands in light of increasing urbanization, changing technologies, forest pests, and other factors. The Assessment supported the revision of five Forest Plans within the Southern Appalachian Mountains, with the exception of the recently revised GWNF Forest Plan, by describing how the lands, resources, people and management of the National Forests are interrelated within the larger context of the Southern Appalachian region.

The Revised Land and Resource Management Plan for the Jefferson National Forest was approved January 15, 2004. Although the Jefferson National Forest was administratively combined with the George Washington National Forest in 1995, the forests still retain separate Forest Plans.

3. Prior Plan Revision Effort

Although the 2008 planning rule is no longer in effect, the information gathered from public collaboration efforts and most of the analysis conducted prior to the court's injunction in June 2009 is useful for completing the plan revision using the provisions of the 1982 planning regulations. The GWNF has concluded that the following material developed during the plan revision process to date is appropriate for continued use:

—The inventory and evaluation of potential wilderness areas that was previously published on August 21, 2008 is consistent with the 1982 planning regulations, and will be brought forward into this plan revision process.

—A Comprehensive Evaluation Report (CER) was developed under the 2005 and 2008 rule provisions, and it has been available for public comment. This analysis will be updated with additional information to meet the requirements of the Analysis of the Management Situation (AMS) provisions of the 1982 rule. The information from this analysis was used to help identify the need for change and the preliminary proposed actions that are identified in this notice. Comments received during the scoping process will be used to further update the need for change analysis. Other AMS requirements will also continue to be worked on as the planning process proceeds.

—Information on the life history, threats, habitat needs and population trends for a number of terrestrial and aquatic species contained in the forest planning records for the ecosystem and species diversity assessments will continue to be used as a reference in the planning process as appropriate to meet the requirements of the 1982 planning regulations. This is scientific information and is not affected by the change of planning rule. This information will be updated with any new available information.

—Public comments previously submitted in writing, or recorded at past public meetings, related to the revision of the GW Forest Plan since 2007 will be used to help identify issues and concerns and to help develop alternatives to address these issues and concerns.

As necessary or appropriate, the above listed material will be further adjusted as part of the planning process using the provisions of the 1982 planning regulations.

D. Issues, Need for Change, and Proposed Actions

According to 36 CFR 219.10(g) (1982 rule), land management plans are ordinarily revised on a 10 to 15 year cycle. The existing Forest Plan for the George Washington National Forest (GWNIF) was approved on January 21, 1993. Since then, changes have occurred in resource conditions, environmental stresses and threats, societal demands and our current state of scientific knowledge. Also since then, the Jefferson National Forest was administratively combined with the George Washington National Forest in 1995. Together, both forests cover almost 1.8 million acres of National Forest system lands in Virginia, West Virginia and a small portion in Kentucky. The Forest Plan for the Jefferson National Forest was approved January 15, 2004 and was prepared in conjunction with four other National Forests in the Southern Appalachians, using the best available science from the Southern Appalachian Assessment. A desire for both the GWNF and JNF Forest Plans to provide some level of consistent management direction has been expressed by members of the public, our state agency partners and our forest employees. This will improve efficiency in plan implementation and monitoring and in responding to regional or landscape level analysis of issues that cross broad landscapes. Therefore, consideration of the management direction in the JNF Revised Forest Plan is important in the revision of the GWNF Forest Plan.

Previous public collaboration efforts with individual members of the public, organizations, user groups, industry representatives, local and state government representatives, state agency partners and forest employees have identified a number of items that should be addressed in the Forest Plan. These include questions about how the Forest will manage terrestrial plants, terrestrial animals, rare species (including threatened, endangered, sensitive and locally rare species), old growth, riparian areas, water quality, drinking water, aquatic animals, wood products, scenery, recreation opportunities in a variety of settings (hiking, mountain biking, All-Terrain Vehicle use, Off-Highway Vehicle use, horseback riding), roadless areas, wilderness, forest health, roads, minerals, fire, subsurface mineral rights, lands, air quality, special uses and the contributions of the forest to local economies. A number of concerns involved issues related to impacts to the Forest from outside the Forest boundary. These include climate change, nonnative invasive species, increasing development adjacent to the Forest, increasing demands for use of Forest (e.g., wind energy development), increasing demands for access to the Forest, and increasing law enforcement problems with illegal access. Most of these concerns are multi-faceted, interconnected and frequently involve conflicting viewpoints. However, from all of the previous public interactions, there appeared to be three prominent areas of discussion: Vegetation management (where, how much, what types); access management (roads and trails); and management of roadless areas, other remote areas, and wilderness.

The need for change topics and proposed actions highlighted here represent efforts to integrate and balance many of the issues and concerns that have been identified to date. They are a starting point for framing future discussions in proceeding with the GWNF Forest Plan revision; discussions that could lead to additional issues and needs for change, different alternatives, different land allocations, changes in objectives, changes in suitable uses and different levels of analysis needed. Every concern or issue is not necessarily mentioned below but more details on the need for change and proposed actions can be found on the forest's Web site at http://www.fs.fed.us/r8/gwj.

Need for Change Topic 1—Ecological Health, Restoration and Sustainability

Changes are needed in management direction for maintaining or restoring healthy, resilient forest ecosystems due to the recognition that: Vegetation conditions (structure, composition, and function) for some ecosystems have declined (e.g., oak regeneration, fire dependent pine regeneration); forest conditions indicate a substantial departure from natural fire regimes; stresses and threats from insects, disease, and nonnative invasive plant and animal species are increasing; and potential effects from climate change are uncertain. By restoring and maintaining the key characteristics, conditions, and functionality of native ecological systems, the GWNF should also provide for the needs of the diverse plant and animal species on the forest. The issue of vegetation management (where, how much, what type) is closely related to this topic because it is one of the tools by which the desired conditions and objectives for ecological health and sustainability can be accomplished.

Proposed Actions

1. Identify desired conditions and objectives to maintain the resilience and function of nine identified ecological systems and determine the desired structure and composition of those ecosystems.

2. Incorporate management direction to provide habitat for maintaining species viability and diversity across the forest. For example, specify objectives to address the many species that need habitat management in some form of opening, open woodland or early successional habitat.

3. Combine the existing management prescriptions for remote wildlife habitat, mosaics of wildlife habitat, early successional habitat and timber management into one broader area for management that will allow better implementation of desired conditions and objectives for ecosystem and species diversity and viability at a larger landscape level.

4. Add about 23,000 acres of new and expanded existing Special Biological Areas to protect and restore rare communities and species.

5. Recognize the role of fire as an essential ecological process. Substantially increase the objective for using prescribed fire for ecosystem restoration to around 12,000 to 20,000 acres per year. Incorporate the use of unplanned natural ignitions for achieving ecological objectives.

6. Incorporate management direction for controlling, treating or eradicating nonnative invasive plant and animal species.

7. Update the Management Indicator Species (MIS) list to use the same species as in the Jefferson NF Forest Plan, except the Cow Knob salamander will replace the Peaks of Otter salamander. MIS are species whose population changes are believed to indicate the effects of management activities.

8. Update the direction for management of old growth to meet guidance for the Southern Region. Provide for small, medium and large patches of old growth with an adequate representation and distribution of the old growth community types. Because an inventory of existing old growth does not exist to the degree it did for the Jefferson NF, manage old growth through the use of forest-wide desired conditions and standards, rather than as a separate management prescription as in the Jefferson NF Forest Plan.

9. Incorporate adaptive management strategies for addressing climate change.

10. Identify five reference watersheds for monitoring of baseline conditions.

Need for Change Topic 2—Roadless Area, Backcountry and Wilderness Management

The 2001 Roadless Area Conservation Rule used the roadless inventory from the 1993 GWNF Forest Plan to identify the inventoried roadless areas covered by the Rule. These Inventoried Roadless Areas, updated to reflect subsequent designations of Wilderness and a National Scenic Area, now include 24 areas for a total of about 242,000 acres. The 2001 Roadless Area Conservation Rule has been litigated, enjoined, and reinstated for part of the U.S., but it is currently not in effect for the GWNF. In 2008, an inventory of Potential Wilderness Areas was completed that identified 37 areas (totaling about 370,000 acres) that meet the definition of wilderness in section 2(c) of the 1964 Wilderness Act. This inventory included almost all of the remaining 2001 Inventoried Roadless Areas. A draft evaluation that is based on the capability (degree to which each area contains the basic natural characteristics that make it suitable for wilderness designation), the availability (value of and need for the wilderness resource compared to the value of and need of each area for other resources) and the need (degree that the area contributes to the local and national distribution of wilderness) for additional wilderness has been conducted for each of these areas.

Proposed Actions

1. Identify one new area and three additions to existing wilderness areas (about 20,400 acres) as recommended wilderness study areas.

2. Expand the current remote backcountry management area allocation to include more of the Inventoried Roadless Areas and update the management direction for these remote backcountry areas to contain management restrictions on road construction and timber harvest that are similar to those described in the 2001 Roadless Area Conservation Rule.

3. Areas in the potential wilderness area inventory that are currently assigned an active management prescription, and that are not recommended for wilderness study, would remain in active management. Many of these areas are long and skinny and surrounded by roads that are suitable for some management activities without additional permanent road construction.

Need for Change Topic 3—Responding to Social Needs

Changes are needed in management direction for some of the tangible and non tangible goods and services offered by various forest resources. The issue of road and trail access is most closely related to this topic.

Proposed Actions

1. Identify the importance of maintaining the high quality of water for drinking water and for aquatic life. Increase the riparian corridor distance definition. Update the standards for riparian area protection to incorporate the best available science. Strengthen the management direction for groundwater and karst areas (two of the nine ecological systems for focusing management direction to maintain or restore sustainability are ones that emphasize the need for protection of surface water and groundwater).

2. Re-evaluate the oil and gas leasing availability designations.

3. Identify uses suitable for specific areas of the forest (e.g., timber production, road construction, wind energy development, prescribed fire).

4. Determine the allowable sale quantity of timber.

5. Re-evaluate road access needs.

E. Preliminary Alternatives

A range of alternatives will be considered during the plan revision process that will propose different options to resolve issues identified in the scoping process. The draft EIS will examine the effects of implementing a reasonable range of alternatives and will identify a preferred alternative. Previous public collaboration efforts have been used to identify the following preliminary alternatives; however, there will be future opportunities to refine and/or develop additional alternatives.

1. Proposed Action— The proposed actions identified to date in order to respond to the need for change formulate the basis for an alternative to be evaluated.

2. No Action—Management would continue under the existing Forest Plan.

3. Increased Emphasis on Remote Recreation and Remote Habitats—This alternative would recommend additional areas for wilderness study and allocate a backcountry recreation management prescription to more of the potential wilderness areas currently in active management.

F. Documents Available for Review

A number of documents are available for review at the George Washington and Jefferson National Forests' Web site http://www.fs.fed.us/r8/gwj. Additional documents will be added to this site throughout the planning process.

G. Lead and Cooperating Agencies

The lead agency for this proposal is the USDA Forest Service. We expect the USDI Bureau of Land Management will be a cooperating agency in the designation of lands available for oil and gas leasing.

H. Scoping Process

When the GWNF Forest Plan revision process initially started, public workshops were held in March of 2007 where participants were asked to describe what they thought was working well on the Forest and what needed to be changed. In July of 2008 another round of public workshops was held where participants were asked to work on District maps and identify areas of the Forest they would like to see managed in a different way. Public workshops were held on various topics (vegetation management, access, roadless areas and wilderness) to have discussions on how we should change the Forest Plan to address concerns. In January and February of 2009 additional workshops were held where preliminary opinions were presented on how the Forest could respond to the information that had been received up to that point. The need for change, issues, proposed actions and alternatives identified in this Notice of Intent reflect those preliminary discussions and opinions as a starting point for proceeding with this revision.

It is important that reviewers provide their comments on what is presented in this notice and on the Web site at such times and in such a way that they are useful to the Agency's preparation of the revised plan and the EIS. Comments on the need for change, proposed actions, issues and preliminary alternatives will be most valuable if received by May 7, 2010 and should clearly articulate the reviewers' concerns. The submission of timely and specific comments can affect a reviewer's ability to participate in any subsequent administrative or judicial review. At this time, we anticipate using a pre decisional objection process for administrative review.

Comments received in response to this solicitation, including the names and addresses of those who comment will be part of the public record for this proposed action. Comments submitted anonymously will be accepted and considered.

Authority: 16 U.S.C. 1600-1614; 36 CFR 219.35 (74 FR 67073-67074).

Dated: March 2, 2010.
Henry B. Hickerson,
Acting Forest Supervisor.

[FR Doc. 2010-4931 Filed 3-9-10; 8:45 am]

BILLING CODE 3410-11-M